DEPARTMENT OF THE TREASURY

Office of the Comptroller of the Currency

Agency Information Collection Activities: Proposed Information Collection; Comment Request

AGENCY: Office of the Comptroller of the Currency (OCC), Treasury.

ACTION: Notice and request for comment.

SUMMARY: The OCC, as part of its continuing effort to reduce paperwork and respondent burden, invites the general public and other Federal agencies to comment on a continuing information collection, as required by the Paperwork Reduction Act of 1995. An agency may not conduct or sponsor, and a respondent is not required to respond to, an information collection unless it displays a currently valid Office of Management and Budget (OMB) control number. The OCC is soliciting comment concerning its information collection titled, “OCC Communications Questionnaire and Usability Test Survey.” The OCC is also giving notice that it has submitted the collection to OMB for review.

DATES: Comments must be submitted on or before May 23, 2008.

ADDRESSES: Communications Division, Office of the Comptroller of the Currency, Public Information Room, Mailstop 1-5, Attention: 1557-0226, 250 E Street, SW., Washington, DC 20219. In addition, comments may be sent by fax to (202) 874-4448, or by electronic mail to regs.comments@occ.treas.gov. You may personally inspect and photocopy the comments at the OCC's Public Information Room, 250 E Street, SW., Washington, DC 20219. For security reasons, the OCC requires that visitors make an appointment to inspect comments. You may do so by calling (202) 874-5043. Upon arrival, visitors will be required to present valid government-issued photo identification and submit to security screening in order to inspect and photocopy comments.

Additionally, you should send a copy of your comments to OCC Desk Officer, 1557-0226, by mail to U.S. Office of Management and Budget, 725 17th Street, NW., #10235, Washington, DC 20503, or by fax to (202) 395-6974.

FOR FURTHER INFORMATION CONTACT: You can request additional information or a copy of the collection from Mary Gottlieb, (202) 874-5090, Legislative and Regulatory Activities Division, Office of the Comptroller of the Currency, 250 E Street, SW., Washington, DC 20219.

SUPPLEMENTARY INFORMATION: The OCC is proposing to extend OMB approval of the following information collection:

Title: OCC Communications Questionnaire.

OMB Control Number: 1557-0226.

Description: The OCC is proposing to continue to collect information from national banks regarding the quality, timeliness, and effectiveness of OCC communications products, such as booklets, issuances, and CDs, and expand its collection to include a usability test of its Web site. Case scenarios would be presented to users to test their ability to find information or complete a task on the Web site. Completed questionnaires will provide the OCC with information needed to properly evaluate the effectiveness of its paper and electronic communications products. The OCC would use the information to identify problems and to improve its service to national banks.

Type of Review: Regular review.

Affected Public: Businesses or other for-profit.

Estimated Number of Respondents:

Communications Questionnaire: 2,600.

Usability Test: 300.

Estimated Total Annual Responses:

Communications Questionnaire: 2,600.

Usability Test: 300.

Estimated Frequency of Response: 1 to 2 times annually.

Estimated Time per Respondent:

Communications Questionnaire: 10 minutes.

Usability Test: 1 hour.

Estimated Total Annual Burden: 1,100 hours.

An agency may not conduct or sponsor, and a respondent is not required to respond to, an information collection unless the information collection displays a currently valid OMB control number.

On February 15, 2008, the OCC published a notice in the Federal Register soliciting comments for 60 days on this information collection (73 FR 8931). No comments were received. Comments continue to be invited on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Dated: April 17, 2008.
Michele Meyer,
Assistant Director, Legislative and Regulatory Activities Division, Office of the Comptroller of the Currency.

[FR Doc. E8-8739 Filed 4-22-08; 8:45 am]

BILLING CODE 4810-33-P